DEPARTMENT OF JUSTICE

[OMB Number 1110-0001]

Agency Information Collection Activities; Proposed eCollection eComments Requested; Extension of a Currently Approved Collection; Title—Return A—Monthly Return of Offenses Known to Police and Supplement to Return A—Monthly Return of Offenses Known to Police

AGENCY: Federal Bureau of Investigation (FBI), DOJ.

ACTION: 30-Day notice.

SUMMARY: The Criminal Justice Information Services (CJIS) Division, FBI, DOJ, will be submitting the following information collection request to OMB for review and approval in accordance with the Paperwork Reduction Act (PRA) of 1995.

DATES: Comments are encouraged and will be accepted for 30 days until February 23, 2026.

FOR FURTHER INFORMATION CONTACT: If you have comments, especially on the estimated public burden or associated response time, suggestions, or need a copy of the proposed information collection instrument with instructions or additional information, please contact Linda Shriver, Acting Unit Chief, Crime and Law Enforcement Statistics Unit, FBI, CJIS Division, Module D-2, 1000 Custer Hollow Road, Clarksburg, West Virginia 26306, 771-228-2393, or at ucr@fbi.gov.

SUPPLEMENTARY INFORMATION: The proposed information collection was previously published in the Federal Register on November 21, 2025, 90 FR 52702 allowing for a 60-day comment period. Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Written comments and recommendations for this information collection should be submitted within 30 days of the publication of this notice on the following website: www.reginfo.gov/public/do/PRAMain. Find this particular information collection by selecting “Currently under 30-day Review—Open for Public Comments” or by using the search function and entering the title of the information collection or the OMB Control Number [1110-0001]. This information collection request may be viewed at www.reginfo.gov. Follow the instructions to view Department of Justice, information collections currently under review by OMB.

DOJ seeks PRA authorization for this information collection for three (3) years. OMB authorization for an Information Collection Review (ICR) cannot be for more than three (3) years without renewal. The DOJ notes that information collection requirements submitted to OMB for existing ICRs receive a month-to-month extension while they undergo review.

Overview of This Information Collection

1. Type of Information Collection: Extension of a currently approved collection.

2. The Title of the Form/Collection: Return A—Monthly Return of Offenses Known to Police and Supplement to Return A—Monthly Return of Offenses Known to Police.

3. The agency form number, if any, and the applicable component of the department sponsoring the collection: Form Number: 1-720 and 1-706. Sponsor: CJIS Division, FBI, DOJ.

4. Affected public who will be asked or required to respond, as well as a brief abstract: Affected public: Federal, state, county, city, tribal, and territorial law enforcement agencies.

Abstract: Under Title 28, U.S. Code 534, Acquisition, Preservation, and Exchange of Identification Records; Appointments of Officials, this collection requests Part I offense and clearance data, as well as stolen and recovered monetary values of stolen property throughout the United States from federal, state, county, city, tribal, and territorial law enforcement agencies in order for the FBI's Uniform Crime Reporting Program to serve as the national clearinghouse for the collection and dissemination of crime data and to publish these statistics.

5. Obligation to Respond: The obligation to respond is mandatory for federal agencies and voluntary for non-federal agencies.

6. Total Estimated Number of Respondents: 2,381 estimated respondents.

7. Estimated Time per Respondent: 10.5 minutes to respond.

8. Frequency: The frequency of submission is variable.

9. Total Estimated Annual Time Burden: The total estimated annual burden hours are 60,447.

10. Total Estimated Annual Other Costs Burden: $0.

If additional information is required, contact: Darwin Arceo, Department Clearance Officer, Enterprise Portfolio Management, Justice Management Division, U.S. DOJ, Two Constitution Square, 145 N Street NE, 4W-218, Washington, DC 20530.

Dated: January 21, 2026.
Darwin Arceo,
Department Clearance Officer for PRA, U.S. DOJ.

[FR Doc. 2026-01257 Filed 1-22-26; 8:45 am]

BILLING CODE 4410-02-P